DEPARTMENT OF HOMELAND SECURITY

Coast Guard

33 CFR Part 100

[Docket No. USCG-2019-0306]

Special Local Regulation; Regattas and Marine Parades in the COTP Lake Michigan Zone—Harborfest Dragon Boat Race; South Haven, MI

AGENCY: Coast Guard, DHS.

ACTION: Notice of enforcement of regulation.

SUMMARY: The Coast Guard will enforce the special local regulation on the Black River in South Haven, Michigan for the Harborfest Dragon Boat Race on June 15, 2019. This action is necessary and intended to protect the safety of life and property on navigable waters prior to, during, and immediately after the boat race. During the enforcement period listed below vessels and persons are prohibited from transiting through, mooring, or anchoring within the special local regulation unless authorized by the Captain of the Port Lake Michigan or a designated representative. The operator of any vessel in the regulated area must comply with directions from the Patrol Commander or any Official Patrol displaying a Coast Guard ensign.

DATES: The regulations in 33 CFR 100.903 will be enforced from 7 a.m. through 6 p.m. on June 15, 2019.

FOR FURTHER INFORMATION CONTACT: If you have questions about this notice of enforcement, call or email marine event coordinator MSTC Kaleena Carpino, Prevention Department, Coast Guard Sector Lake Michigan, Milwaukee, WI; telephone (414) 747-7148, email D09-SMB-SECLakeMichigan-WWM@uscg.mil.

SUPPLEMENTARY INFORMATION: The Coast Guard will enforce the special local regulation in 33 CFR 100.903 from 7 a.m. through 6 p.m. on June 15, 2019. This special local regulation encompasses the waters of the Black River in South Haven, MI within the following coordinates starting at 42°24′13.6″ N, 086°16′41″ W; then southeast 42°24′12.6″ N, 086°16′40″ W; then northeast to 42°24′19.2″ N, 086°16′26.5″ W; then northwest to 42°24′20.22″ N, 086°16′27.4″ W; then back to point of origin. (NAD 83). As specified in 33 CFR 100.901, no vessel may enter, transit through, or anchor within the regulated area without the permission of the Coast Guard Patrol Commander. This action is being taken to provide for the safety of life and property on navigable waterways prior to, during, and immediately after the boat race.

Pursuant to 33 CFR 100.903, Harborfest Dragon Boat Race; South Haven, MI, entry into, transiting, or anchoring within the special local regulation during an enforcement period is prohibited unless authorized by the Captain of the Port Lake Michigan, or a designated on-scene representative. Those seeking permission to enter the special local regulation may request permission from the Captain of Port Lake Michigan via channel 16, VHF-FM or at (414) 747-7182. If you are the operator of a vessel in the regulated area during the enforcement period you must comply with directions from the Patrol Commander or any Official Patrol displaying a Coast Guard ensign.

This notice of enforcement is issued under the authority of 33 CFR 100.903 and 5 U.S.C. 552(a). In addition to this notice of enforcement in the Federal Register, the Coast Guard will provide notification of this enforcement period via the Local Notice to Mariners and Broadcast Notice to Mariners.

Dated: May 2, 2019.
Thomas J. Stuhlreyer,
Captain, U.S. Coast Guard, Captain of the Port Lake Michigan.

[FR Doc. 2019-09419 Filed 5-7-19; 8:45 am]

BILLING CODE 9110-04-P